DEPARTMENT OF TRANSPORTATION

National Highway Traffic Safety Administration

49 CFR Part 571

[DOT Docket No. NHTSA-03-16194]

RIN 2127-AI09

Federal Motor Vehicle Safety Standards; Controls and Displays

AGENCY: National Highway Traffic Safety Administration (NHTSA), DOT.

ACTION: Notice of proposed rulemaking (NPRM).

SUMMARY: In this document, we propose to update and expand our standard regulating motor vehicle controls and displays. The standard requires, among other things, that certain controls, telltales and indicators be identified by specified symbols or words. The NPRM proposes to require the mandatory use of symbols for the identification of these controls, telltales and indicators, as well as for additional controls, telltales and indicators. The NPRM also proposes to extend the standard's display requirements to vehicles with a Gross Vehicle Weight Rating (GVWR) greater than 10,000 pounds. Finally, the NPRM proposes to update the standard's requirements for multi-function controls and displays, to make the requirements appropriate for advanced systems.

DATES: You should submit your comments early enough to ensure that Docket Management receives them not later than November 24, 2003.

ADDRESSES: You may submit your comments [identified by the DOT DMS Docket Number cited in the heading of this document] by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC, 20590-001.

• Hand Delivery: Room PL-401 on the plaza level of the Nassif Building, 400 Seventh Street, SW., Washington, DC, between 9 a.m. and 5 p.m., Monday through Friday, except Federal Holidays.

• Federal eRulemaking Portal: Go to http://www.regulations.gov. Follow the online instructions for submitting comments.

You may call the Docket at 202-366-9324. You may visit the Docket from 10 a.m. to 5 p.m., Monday through Friday, except Federal Holidays.

FOR FURTHER INFORMATION CONTACT: For non-legal issues, except for international harmonization issues, you may call Ms. Gayle Dalrymple, Office of Crash Avoidance Standards at (202) 366-5559. Her FAX number is (202) 493-2739.

For international harmonization issues, you may call Mr. Patrick Boyd, Office of Crash Avoidance Standards at (202) 366-6346. His FAX number is (202) 493-2739.

For legal issues, you may call Ms. Dorothy Nakama, Office of the Chief Counsel at (202) 366-2992. Her FAX number is (202) 366-3820.

You may send mail to all of these officials at National Highway Traffic Safety Administration, 400 Seventh St., SW., Washington, DC 20590.

SUPPLEMENTARY INFORMATION:

Table of Contents

I. Background

II. Issues Raised in 1996 NPRM and 1997 Final Rule

III. Concerns Underlying this Proposal

A. Need to Standardize Identifying Symbols for Additional Controls and Displays

B. Need to Modify Identification Requirements for Multi-function Controls with Remote Displays

IV. Harmonizing with Canadian and International Standards

A. Working with Canada

B. Working with the World Forum for Harmonization of Vehicle Regulations of the United Nations/Economic Commission for Europe

V. Notice of Proposed Rulemaking

A. Proposed New Definitions

1. “Adjacent”

2. “Common Space”

3. “Control”

4. “Indicator”

5. “Multi-Function Control” and “Multi-Task Display”

6. “Telltale”

B. Application to Vehicles of 4,536 Kg. (10,000 Pounds) or Greater GVWR

C. Location of Controls

D. Labeling Requirement for Ring-Type Horn Actuators

E. Visibility Requirements Under “Daylight and Nighttime” Conditions

F. Proposed New Tables

1. Table 1

a. Items in Proposed Table 1 Not in Current Tables

b. Air Bag Malfunction Telltale

c. Malfunction of Trailer ABS Telltale

d. Required Use of Symbols and Word Identifiers for Brake Telltales

e. Air Bag Deactivated Telltale

f. Speedometer

2. Proposed Table 2

G. Objectivity

H. Common Space for Displaying Multiple Messages

I. Identification of Multi-function Controls

J. Other Issues

K. Conforming Amendments to Other Standards

VI. Leadtime and Cost

VII. Regulatory Analyses and Notices

A. Executive Order 12866 and DOT Regulatory Policies and Procedures

B. Regulatory Flexibility Act

C. Executive Order 13132 (Federalism)

D. Executive Order 12778 (Civil Justice Reform)

E. National Environmental Policy Act

F. Paperwork Reduction Act

G. National Technology Transfer and Advancement Act

H. Unfunded Mandates Reform Act

I. Plain Language

J. Regulation Identifier Number (RIN)

VIII. Comments

Proposed Regulatory Text

I. Background

NHTSA issued the original version of Federal Motor Vehicle Safety Standard (FMVSS) 101, Controls and Displays, in 1967 (32 FR 2408) as one of the initial FMVSSs. The standard applies to passenger cars, multipurpose passenger vehicles (MPVs), trucks, and buses.¹ The purpose of the original standard was to assure the accessibility and visibility of motor vehicle controls and displays under all lighting conditions. The standard was designed to reduce the risk of safety hazards caused by the diversion of the driver's attention from the driving task to locate and identify the desired control or display, and to ensure that a driver wearing a safety belt could reach controls needed to accomplish the driving task.

¹ The requirements of the current Table 2, “Identification and Illustration of Displays” do not apply to vehicles of 10,000 pounds or more GVWR. We are proposing to change this. See section V.B.

At present, FMVSS 101 specifies requirements for the location (S5.1), identification (S5.2), and illumination (5.3) of various controls and displays. It specifies that those controls and displays must be accessible and visible to a driver properly seated wearing his or her safety belt. Table 1, “Identification and Illumination of Controls,” and Table 2, “Identification and Illumination of Displays,” indicate which controls and displays are subject to the identification requirements, and how they are to be identified, colored, and illuminated.

II. Issues Raised in 1996 NPRM and 1997 Final Rule

In 1996, pursuant to a March 4, 1995 directive entitled “Regulatory Reinvention Initiative” from the President to the heads of departments and agencies,² NHTSA undertook a review of its regulations and directives. During the course of this review, we identified regulations that could be proposed for elimination as unnecessary or for revision to improve their comprehensibility, application, or appropriateness.

² The initiative was intended in part to eliminate duplicative and unnecessary agency rules and regulations in addition to streamlining existing regulations that remain useful and relevant.

We identified FMVSS 101 as one of those regulations because it appeared to be a candidate either for elimination or revision. We were concerned that the Standard might be imposing a needless regulatory burden on the public by regulating aspects of motor vehicle design that were beyond what was needed to assure safety.

To explore these concerns further, the agency proposed a number of alternative ways that might reduce the regulatory burden of this standard. Specifically, in a May 30, 1996 notice of proposed rulemaking (61 FR 27039), we identified the following approaches to amending FMVSS 101: (1) Rescinding the standard; (2) regulating only those controls and displays whose function is related to motor vehicle safety, and removing outdated provisions; (3) regulating only those controls and displays required by other FMVSSs; (4) consolidating all control and display requirements into FMVSS 101; and (5) permitting the use of International Standards Organization (ISO) symbols on some or all controls and displays currently required to be identified. We announced that if we decided not to rescind FMVSS 101, we might adopt one or more of the other proposals.

The public comments on the proposal indicated that the current requirements are not imposing unnecessary regulatory burdens. None of the commenters urged rescission of the standard. Further, there was no broad consensus, even among the vehicle manufacturers, in support of any of the proposals.

After reviewing the public comments, we published a final rule, announcing that we had decided not to adopt any of the proposals (62 FR 32538; June 16, 1997). We nonetheless amended the standard by removing outdated provisions.

In response to the proposal to regulate only those controls and displays whose function is “related to motor vehicle safety,” some commenters questioned our suggestion in the NPRM that some controls and displays were not related to safety. In the final rule, we did not provide guidance on which controls and displays are or are not safety related.³

³ The agency notes, in retrospect, that while only some controls and displays are for safety functions like brakes or vehicle speed, one of the purposes of FMVSS 101 is to reduce the amount of time that a driver's attention is diverted from the driving task while he or she attempts to locate, correctly identify and correctly operate the desired control or display. In that sense, all controls and displays are related to vehicle safety.

As to our proposal to permit the use of ISO symbols to identify some or all controls and displays currently required by the standard to be identified, commenters from the motor vehicle industry generally supported that proposal. The American Automobile Manufacturers Association (AAMA) supported use of the ISO symbols, noting that symbols not specified in FMVSS 101 have been used in U.S. vehicles for years and that the “motoring public has been educated as to the meaning of these symbols.”

On the other hand, public interest groups raised concerns about the ISO symbols. The Center for Auto Safety (CAS) urged us not to permit ISO symbols because of potential adverse safety consequences if a driver were uncertain how to interpret the symbols. Commenters opposed to using ISO symbols also cited several past NHTSA rulemakings, especially several on the brake standards, in which the agency had expressed reluctance to permit ISO symbols whose meaning it did not believe to be intuitively obvious, i.e., immediately understandable without the necessity for any education or memorization.

In the response to these comments, we expressed our commitment to “exploring the possibilities of harmonizing its regulatory requirements with the regulatory requirements of other nations, provided that such harmonization does not reduce the safety protection afforded to the American public.”

III. Concerns Underlying This Proposal

Two primary concerns underlie this proposal to update FMVSS 101.

A. Need To Standardize Identifying Symbols for Additional Controls and Displays

First, we tentatively conclude that requiring vehicle controls and displays to be consistently identified by means of an internationally recognized set of graphics in all vehicles would promote safety. This is particularly important as the controls and displays in vehicles increase in number and complexity.

The consistent use in all new motor vehicles of a single symbol for each function would increase the recognition of that function among all drivers. Moreover, the internationally recognized symbols are independent of any particular language. In addition, using an established set of symbols also used in other areas enhances their recognition.

The foregoing considerations have led us to propose the use of a graphic symbol set established by the International Standards Organization (ISO) specifically for controls and displays in motor vehicles, ISO 2575:2000. The ISO symbol set has existed for many years. The great majority of vehicles manufactured for sale in the U.S. already use many of these symbols. As a result, U.S. drivers have become familiar with many of them through exposure in their current vehicles.

We believe that, for all vehicles sold today, the vehicle owner's manual lists the symbols used in the vehicle and explains their meanings. To test this belief, NHTSA staff randomly selected owner's manuals for 12 different vehicles. All of the vehicles used some ISO symbols. In all cases, the manuals provided complete explanations of all symbols used in the vehicle, including their definition and the function or condition they represented. Therefore, an explicit requirement that manufacturers list such information in their vehicles' owners' manuals appears unnecessary.

We recognize that some vehicle functions are easily represented by a symbol, such as the horn, while others may be more difficult to convey graphically. Nonetheless, the consistent and widespread use of even the less intuitive symbols generates understanding of their meanings.

We note that an SAE report from the early 1980s, “Investigation Into the Identification and Interpretation of Automotive Indicators and Controls,” showed that U.S. drivers generally failed to recognize the ISO brake malfunction symbol, a graphic representation of a brake drum and shoes with an exclamation point in the center. In general, the word “BRAKE” better communicated a brake malfunction. In the twenty-plus years since that report, many manufacturers have used the ISO symbols for parking brake, brake lining wear, ABS, and brake malfunction in U.S. vehicles (accompanied by the English word, where required), so that U.S. drivers are much more exposed to the graphic of the brake drum and shoes than they were in the past. We believe that the proposed five-year phase-in of the ISO brake symbol proposed here, during which the word “BRAKE” must appear in combination with the ISO brake malfunction symbol, would contribute toward all drivers learning the meaning of the symbol.

We also note that, nearly 20 years ago, the agency stated that it agreed with the idea that “too many symbols” would not be in the interest of motor vehicle safety.⁴ However, we believe today, the issue is not so much the number of symbols or other identifiers, but the number of controls, telltales and indicators. In today's increasingly sophisticated vehicles, the number of controls, telltales and indicators is steadily increasing. These items must be identified in some fashion.

⁴ 49 FR 30191-92; July 27, 1984.

The function of FMVSS 101 is not to limit or regulate the number of controls, telltales and indicators in vehicles; instead, its function is to ensure that when a regulated control, telltale, or indicator exists in the vehicle, proper identification is provided. Whether that identification is a word, an abbreviation, or a graphic, it is a means of representing a specific vehicle function or condition. We tentatively conclude that, in response to the increase in the number of controls in vehicles, it would be desirable to require each control to be labeled with the same symbol in every vehicle in order to minimize driver confusion and distraction. After a period of learning, symbols would be generally recognized as to the function or condition they represent.

B. Need To Modify Identification Requirements for Multi-function Controls With Remote Displays

Second, we tentatively conclude that there is a need to amend FMVSS 101 in response to the development and increased use of multi-function controls linked to a display screen remote from the control itself to convey information to drivers about the status of multiple vehicle systems and means of controlling those systems. We believe that FMVSS 101's current requirement that the identification for controls “be placed on or adjacent to the control” restricts the design of these types of systems unnecessarily. Accordingly, we are proposing an amendment to accommodate those systems.

IV. Harmonizing With Canadian and International Standards

A. Working With Canada

Implementing its commitment to explore the international harmonization of FMVSS 101, NHTSA talked with Transport Canada (Canada's counterpart to the U.S. Department of Transportation) in the late 1990s about Canada's controls and displays standard, i.e., Canadian Motor Vehicle Safety Standard 101. The joint goal of NHTSA and Transport Canada in these talks was to revise their respective standards so that, subject to the overriding concern of ensuring that they continue to provide at least the same level of motor vehicle safety, they are better organized, easier to understand, and consistent with the positions of the U.S., Canada, and European standards organizations. This notice of proposed rulemaking is based in part on that collaboration.

B. Working With the World Forum for Harmonization of Vehicle Regulations of the United Nations/Economic Commission for Europe

The United States and Canada have also informally discussed earlier drafts of the proposed FMVSS 101 and the possibility of its being considered for adoption by other countries participating in the United Nations/Economic Commission for Europe World Forum for Harmonization of Vehicle Regulations (also know as Working Party 29). Working Party 29 administers two agreements dealing with the establishment and harmonization of technical motor vehicle safety regulations: a 1958 Agreement called the “Agreement concerning the adoption of uniform technical prescriptions for wheeled vehicles, equipment and parts which can be fitted and/or be used on wheeled vehicles and the conditions for reciprocal recognition of approvals granted on the basis of these prescriptions” and a 1998 Agreement known as the 1998 Global Agreement. The 1998 Global Agreement provides for the establishment of global technical regulations regarding the safety, emissions, energy conservation and theft prevention of wheeled vehicles, equipment and parts. The Agreement contains procedures for establishing global technical regulations by either harmonizing existing regulations or developing new ones.

On July 18, 2000, in anticipation of the 1998 Global Agreement's entry into force, NHTSA published a request for public comments on the agency's list of preliminary recommendations of standards or aspects of standards for consideration by the Contracting Parties to the Agreement in prioritizing the development and establishment of global technical regulations under the Agreement (65 FR 44565). In the notice, the agency said that it believed that the recommendations would serve the interest of improving motor vehicle safety in the U.S. It also said it would help carry out the 1998 Global Agreement's goal of continuously improving and seeking high levels of safety around the world. In turn, accomplishing that goal would promote the development of new and/or better U.S. standards, thus leveraging the available NHTSA resources for such development.

One of NHTSA's preliminary recommendations in the notice concerned controls and displays:

Controls and displays: No ECE regulation exists on this subject. Further, the European Union (EU) directive on this subject lacks many of the location and illumination requirements of the U.S. standard (FMVSS No.101) and concentrates mainly on symbols. WP.29 is interested in developing an ECE regulation on controls and displays and has asked the U.S. and Canada to develop a draft harmonized standard that will incorporate control and display requirements currently in standards of other countries. The draft will include requirements regarding visibility, illumination and location of controls and displays, and will specify many standardized ISO symbols as mandatory or optional.

After reviewing the public comments, we published a document on January 18, 2001 (66 FR 4893) (DOT Docket No. NHTSA-00-7638; Notice 2) setting forth the recommendations the agency would make to WP.29. We submitted those recommendations at the March 2001 meeting of WP.29 in Geneva. WP.29 considered our recommendations and those of other Contracting Parties and in March 2002 adopted a work program of initial priorities under the 1998 Global Agreement, including controls and displays.

V. Notice of Proposed Rulemaking

A. Proposed New Definitions

In S4, Definitions, we propose the following new or amended definitions:

1. “Adjacent”—At present, the term “adjacent” appears in FMVSS 101's “Identification” section at S5.2.1(a) “The identification appears on or adjacent to the control” and at S5.2.3: “The identification required or permitted by this section shall be placed on or adjacent to the display that it identifies.” The word “adjacent” is not presently defined in FMVSS 101. As will be explained more fully below, the term “adjacent” has resulted in several requests for interpretation of what “adjacent” means for controls that are identified by images that appear on a digital display screen. We propose to clarify “adjacent” with the following definition: “Adjacent, with respect to a symbol identifying a control, telltale or indicator, means: (a) the symbol is in close proximity to the control, telltale or indicator; and (b) no other control, telltale, indicator, identifying symbol or source of illumination appears between the identifying symbol and the telltale, indicator, or control that the symbol identifies.” This would put into regulatory form the definition of the term “adjacent” that we have used in FMVSS 101 interpretation letters such as the June 8, 2000 letter to an unidentified company, and the February 27, 2001 letter to Mazda North American Operations.

2. “Common space”—This term, which is used but not defined in FMVSS 101, would be defined as “an area on which more than one telltale, indicator, identifier or other message may be displayed, but not simultaneously.” This definition is intended to address designs in which a “common space” is used to display more than one warning, message or identification, but not simultaneously. The “common space” is a space-saving device.

3. “Control”—At present, FMVSS 101 regulates both hand-operated controls and foot-operated controls. The Standard requires that certain foot-operated controls, i.e., those for service brake, accelerator, clutch, high beam, windshield washer and windshield wiper, must be operable by the driver. We propose to limit the term “control,” and thus FMVSS 101 itself, to hand-operated controls. We are doing so for two reasons. First, we are unaware of any current vehicles whose high beam, or windshield washer or wiper controls are foot-operated. Second, there is no need, as a practical matter, to include a requirement that service brakes, accelerators, and clutches be operable by the driver.

4. “Indicator”—We propose to use this new term to replace the term “gauge” because “gauge” connotes an analog display whereas “indicator” does not. We propose to define “indicator” as “a device that shows the magnitude of physical characteristics that the instrument is designed to sense.”

5. “Multi-function control” and “multi-task display.” We propose two new definitions to address the use of controls that select several different vehicle functions and that display information about those functions on a display that is remote from the control. A multi-function control is “a control through which the driver may select, and affect the operation of, more than one vehicle function.” A multi-task display is “a display on which more than one message can be shown simultaneously.” These controls and displays are discussed in Section V.I.

6. “Telltale”—We propose to redefine “telltale” as an “optical signal that, when illuminated, indicates the actuation of a device, a correct or improper functioning or condition, or a failure to function.” It is NHTSA's belief that this proposed definition is more specific and less broad than the present definition.

B. Application to Vehicles of 4,536 kg (10,000 lb) or Greater GVWR

At present, FMVSS 101 at S5 excludes vehicles of 4,536 kg (10,000 lb) or greater gross vehicle weight rating from the location, illumination, and color requirements for displays. We are proposing to remove the exclusion, and to make the standard's display requirements applicable to medium and heavy vehicles. Our rationale to include these vehicles is that it would meet the need for safety to ensure that drivers of medium and heavy vehicles are able to see and identify their displays as easily as do drivers of light vehicles.

C. Location of Controls

At S5.1.1, in the section on “Location,” we propose to require that the controls listed in the standard must be located so that they are within reach of the driver while the driver is restrained by a crash protection system pursuant to FMVSS 208, Occupant Crash Protection. Included are not only controls essential to the driving task (i.e., turn signal, windshield wiping and washing), but also controls such as the air conditioning and heating control and fan control.

D. Labeling Requirement for Ring-Type Horn Actuators.

We propose at S5.2.1 that the standard exclude only horns actuated by lanyards from the requirement for identifying horn actuators. This would remove a current exclusion for ring-type horn actuators. We are unaware of any vehicles that use ring-type horn controls. However, we believe that with the current interest in styling vehicles to resemble earlier models we may again see ring-type horn controls in some vehicles.⁵ Since the majority of current drivers would not be familiar with the use of this type of horn control, it should be labeled, if possible. We seek comment on whether this type of horn actuator is used in vehicles currently in production, or planned for production. If ring-type horn actuators are used, in what types of vehicles are they found, and is there a means by which they can be labeled?

⁵ We note that the providing of ring-type horn controls is limited by FMVSS 203, Impact Protection for the Driver from the Steering Control System. This standard requires steering control systems to be constructed so that no components or attachments, including horn actuating mechanisms and trim hardware, can catch the driver's clothing or jewelry during normal driving maneuvers.

E. Visibility Requirements Under “Daylight and Nighttime” Conditions

At S5.3.2.1, we propose to specify that means be provided “for illuminating the indicators, identifications of indicators, and identifications of hand-operated controls listed in Table 1 sufficiently to make them visible to the driver under daylight and nighttime driving conditions.” At S5.3.3, we propose to specify that means be provided for illuminating telltales and their identification sufficiently to make them visible to the driver “under daylight and nighttime driving conditions.” The present language at S.5.3.3(a) states that means shall be provided for making controls, gauges, and their identification of those items “visible to the driver under all driving conditions.” The narrower “visible * * * under daylight and nighttime conditions” language is proposed because under some extreme lighting conditions (e.g. driving directly into a sunrise or sunset), it is virtually impossible to make illuminated symbols (even after adjusting the level of illumination) or non-illuminated symbols be visible to the driver. NHTSA believes that, for the most part, the instances in which the driver cannot see symbols are of short duration, and therefore would not cause a safety problem if the telltales and/or their identifiers were not “visible” to the driver during that short time period.

F. Proposed New Tables

In the current standard, Table 1 lists controls, the symbols and/or words to identify them, and whether illumination is required, while Table 2 lists displays, the symbols and/or words to identify them, the required color, and whether illumination is required.

The proposed revised standard would have two tables, each of which would include both controls and displays.

Table 1 would specify symbols, color requirements and whether illumination is required for controls, telltales, and indicators for which we are proposing illumination or color requirements. These proposed requirements reflect requirements already in FMVSS 101, CMVSS 101, ECE 78/316, or are proposed in the draft GTR on “Hand controls, tell-tales, and indicators.”

Table 2 would specify symbols for controls, telltales, and indicators other than those listed in proposed Table 1. No color or illumination requirements are specified in this table.

We believe that the new, proposed tables would simplify a search for a symbol and show when a symbol is used for several different displays (control, indicator, or telltale). The symbols in the proposed tables are essentially identical to the ISO symbols.

1. Table 1. As indicated above, the proposed Table 1 lists controls, telltales, and indicators for which we are proposing an illumination or color requirement. Column 1 of the table names the control, telltale or indicator, column 2 specifies the required symbol, column 3 indicates whether the item is a control, telltale, indicator, or some combination of control, telltale, or indicator, column 4 states whether illumination is required for that item, and column 5 specifies the required color, if any. All controls, telltales, and indicators that had an illumination or color requirement in the present Tables 1 and 2 are proposed to be included in new Table 1.

a. Items in Proposed Table 1 Not in the Current Tables. The following items are proposed to be included in the new Table 1, but do not appear in either of the current FMVSS 101 tables: (1) The controls and telltales for front and rear fog lamps and parking lamps; (2) the telltale concerning air bag malfunction required by FMVSS 208; and (3) the engine on-board diagnostics telltale required by emissions standards.

b. Air Bag Malfunction Telltale. While FMVSS 208 requires a telltale concerning air bag malfunction, the identification is not specified. This has resulted in manufacturers using different identifications, e.g., “SRS” or “INFL REST”. We propose to require the ISO symbol for air bag malfunction to make the display uniform in all vehicles.

c. Malfunction of Trailer ABS Telltale. Table 1 includes a telltale indicating a malfunction of trailer antilock brake system (ABS). We note that the symbol for the telltale is not identical to the ISO symbol. The ISO specifies a symbol that indicates which trailer, in a rig hauling multiple trailers, is experiencing the problem. To our knowledge, no current vehicle has this sensing capability. FMVSS 121, Air Brake Systems, requires tractor and trailer ABS malfunctions to be identified separately. However, only one telltale is required for trailer ABS malfunctions, regardless of the number of trailers. The ABS malfunction telltales proposed in Table 1, if adopted, would permit compliance with braking standards. The ISO symbol, which includes numbered trailers, on the other hand, represents a capability not required by any country's safety standard, and therefore would require more than is necessary for compliance with braking standards. We believe that manufacturers currently do not plan to use that symbol because standard tractor/trailer wiring systems have too few lines to make it possible to communicate information indicating which trailer is experiencing the problem.

d. Required Use of Symbols and Word Identifiers for Brake Telltales.

FMVSS 101 currently specifies that for controls and displays for which a symbol is shown in the standard's tables, the control or display must be identified by either that symbol or by the word or abbreviation shown in the tables. The standard requires some items, including the brake system malfunction telltales required by FMVSS 105 and 135, to be identified by words.

In proposed Table 1, identifying words or abbreviations have been eliminated for all telltales, except for the brake system malfunction telltales regulated by FMVSS 105 and 135, for which the word “BRAKE” is incorporated into the symbols. We are proposing to require the word “BRAKE”, in addition to the ISO symbol, for these telltales to aid consumers in correctly interpreting the meaning of the brake symbols during a five-year learning period.

The requirements for the word “BRAKE” would end after the five year period. We believe that five years is enough time to enable the American public to learn the meaning of the symbols. We seek public comment on the length of this period.

We believe that requiring the use of a standardized set of symbols would promote safety by making the manner of identification of controls, telltales and indicators uniform across the fleet, thereby reducing driver distraction. It also harmonizes U.S. requirements and symbol usage with Canadian and UN/ECE standards.

e. Air Bag Deactivated Telltale. The advanced air bag requirements of FMVSS 208 include, for vehicles that have automatic suppression features, a requirement for a telltale that indicates whether the passenger air bag is deactivated. See S19.2.2. Among other things, the telltale must have the identifying words “PASSENGER AIR BAG OFF” or “PASS AIR BAG OFF” on the telltale or within 25 mm (1.0 in) of the telltale. The advanced air bag requirements are being phased in on a mandatory basis beginning September 1, 2003. We have decided not to propose any change in FMVSS 208's requirements for this telltale at this time, i.e., it will continue to be required to have the identifying words “PASSENGER AIR BAG OFF” or “PASS AIR BAG OFF” on the telltale or within 25 mm (1.0 in) of the telltale.

f. Speedometer. As with the existing version of FMVSS 101, a vehicle's speedometer would be required to be identified with “MPH, or MPH and km/h”. The intent is to require speedometer display in MPH, and to allow the addition of km/h at the option of the manufacturer. This differs from the requirements of many other countries. However, as we explained in a final rule published in the Federal Register on May 15, 2000 (65 FR 30915), speedometers graduated in km/h only would be useless for drivers in the U.S., where speed limits are communicated in MPH alone.

2. Proposed Table 2. As discussed earlier, proposed Table 2 specifies symbols for the controls, indicators and telltales that are not listed in Table 1. Proposed Table 2 items have no illumination, location, or color requirements. A vehicle containing an item listed in either proposed Table 1 or Table 2 would be required to use the symbol listed for the item, regardless of the vehicle's weight class.

G. Objectivity

Comments are requested on increasing the objectivity, and thus the enforceability, of the performance requirements proposed in this document. For example, is there an appropriate way to increase the objectivity of the proposed requirement that “Any indicator or telltale not listed in Table 1 and any identification of that indicator or telltale must not be a color that masks the driver's ability to recognize any telltale, control, or indicator listed in Table 1” (Proposed S5.4.2)? What colors mask the specified colors in the tables, and under what circumstances, i.e., is masking partly a function of the distance between two of these items and the relative brightness of the two items?

H. Common Space for Displaying Multiple Messages

FMVSS 101 currently specifies that a common space may be used to display messages from any sources, subject to several requirements. One of the requirements is that the telltales for the brake, high beam, turn signal, and safety belt may not be shown in the common space. These telltales are of particular safety significance. This requirement ensures that these telltales, if activated, are always visible to the driver.

We are proposing to modify this requirement in a way that will provide increased flexibility. Under our proposal, an expanded list of telltales of particular safety significance—the telltales for any brake system malfunction, the air bag malfunction, the side air bag malfunction, low tire pressure, passenger air bag off, high beam, turn signal, and seat belt—could be in a common space but not with any other of these telltales. If one of these telltales were activated, it would be required to displace any other symbol or message in that common space while the underlying condition that caused the telltale's activation exists. This modified requirement would continue to ensure that these telltales, if activated, would always be visible to the driver.

I. Identification of Multi-Function Controls

Over the past several years, we have addressed several requests for interpretation asking how FMVSS 101's requirements for identifying controls apply to advanced design concepts that use one control to access many vehicle functions, with the control's functions displayed on a screen remote from the control. These interpretations include a June 8, 2000 interpretation to a manufacturer whose identity is confidential, a February 28, 2001 interpretation to Mazda, and a January 10, 2002 interpretation to Porsche.

In interpreting FMVSS 101 over the years, we have sought to interpret it in a broad manner in light of new technology. As we explained in our letter to Porsche, however, there is a limit to how much we can do by interpretation as opposed to conducting rulemaking to facilitate the use of new technology.

We believe that FMVSS 101's current requirement that the identification for controls “be placed on or adjacent to the control” has a particular potential to restrict the use of advanced design concepts. The system that Porsche asked about included a “combination multi-function switch/rotary dial,” similar to a joystick, located on the center console between the driver's seat and the front passenger seat, and a small display screen on the dashboard. The display screen provided the identification for the various functions of the dial, which changed as different functions were selected. Thus, the dial needed to be operated in conjunction with the display screen. As we explained in our letter to Porsche, however, the dial (i.e., the control) and the related display (which provided the identification for functions of the control) could not be considered to be “adjacent” to each other, given the distance between them.

We have tentatively concluded that FMVSS 101 is unnecessarily design restrictive with respect to multi-function controls that use remote displays to identify the various functions of the controls, such as Porsche's control. As we noted in our letter to Porsche, the use of this type of system may be intuitive to persons who are familiar with computers and/or video games, since use of the multi-function switch/rotary dial is analogous to the use of a computer mouse or video game controller. Also, for reasons of ergonomics, there may be advantages to separating the control and the display. In the case of the system identified by Porsche, the control between the driver seat and front passenger seat is easily reached by the driver without having to lean forward, and the location of the display on the instrument panel enables the driver to see the identification for the multi-function system without having to look down to the console, away from the road.

On November 23, 2001, the agency received a petition for rulemaking from the Alliance of Automobile Manufacturers (the Alliance) to eliminate the adjacency requirement from the current 49 CFR 571.101, Section S5.2.1(a). The agency granted the petition and is taking up the issue in this rulemaking. The Alliance contends that the current language of S5.2.1(a) “* * * has become an inadvertent design restriction on technologically advanced vehicle control and display systems. The Alliance believes that such an amendment is needed to facilitate the introduction of advanced vehicle control and display systems that can enhance vehicle safety by reducing the need for a driver to take his or her eyes of (sic) the roadway to operate multiple vehicle controls and by reducing the potential for driver confusion that could arise from ‘information overload’ from multiple identification symbols on a single control.” The Alliance proposed the following language to replace the current S5.2.1(a):

(a)(1) Except as specified in § 5.2.1(b), any vehicle system operated by a hand-operated control listed in column 1 of Table 1 that has a symbol designated for it in column 3 of that table shall be identified by either the symbol designated in column 3 (or symbol substantially similar in form to that shown in column 3) or the word or abbreviation shown in column 2 of that table. Any such control for which no symbol is shown in Table 1 shall be identified by the word or abbreviation shown in column 2. Words or symbols in addition to the required symbol, word or abbreviation may be used at the manufacturer's discretion for the purpose of clarity. Any vehicle system operated by such a control for which column 2 of Table 1 and/or column 3 of Table 1 specifies “Mfr. Option” shall be identified by the manufacturer's choice of a symbol, word or abbreviation, as indicated by that specification in column 2 and/or column 3.

(2) Under the conditions of S6, each hand operated control listed in column 1 of Table 1 shall be visible to the driver and each identification required by subsection (a)(1) shall be visible to the driver when the control is operating the corresponding vehicle system. Hand-operated controls listed in column 1 of Table 1 may be combined. Except as provided in S5.2.1.1, S5.2.1.2, and S5.2.1.3, when identification required by subsection (a)(1) is required by this section to be visible to the driver, it shall appear to the driver perceptually upright. The vehicle's owner's manual must explain the operation and identification of the hand operated controls listed in column 1 of Table 1.

It is not our desire to hinder technical advances in this area, if there are no safety concerns. However, we have the following concerns about the Alliance proposal:

(1) We note that the Alliance did not provide data to support its claim that these “advanced vehicle control and display systems” can, in fact, reduce the amount of time the driver needs to look away from the road to locate and operate controls while driving;

(2) Although it would drop the adjacency requirement, the proposal does not define what proper identification would be. Can a control be said to be truly identified if there is no visual clue as to which label belongs with which control?;

(3) The Alliance's suggested requirement that the identification need only be visible to the driver when the control is operating the corresponding vehicle system raises the question of how the driver will be able to locate the control for a system that is not currently operating, but when the need for it arises, may be urgent. For example, access to windshield wiper controls becomes critical when a sudden rainstorm begins. Control identification is probably most important in terms of driver distraction when the vehicle system desired is not operating, but operation is desired to begin.

(4) The Alliance's proposed explanatory text, “* * *controls* * * may be combined” is irrelevant since the current standard does not prohibit the combination of controls. However, it raises the question, are there controls that should not be combined? An example would be the headlight switch. If the headlight switch were part of a multi-function control, would it be too easy for the driver to inadvertently flash the headlights, or for the driver to have trouble locating the headlight switch quickly?

In an attempt to address the petitioner's concerns, we have proposed limited exemption from the adjacency requirement if the control is associated with a display, located in the driver's view, which clearly shows all functions available from that control (see proposed regulatory text at S5.1.4). We have also added a definition for “multi-function control” to S4.

We seek comment on the following issues related to the use of multi-function controls and multi-task displays as well as comment on the proposed regulatory language itself:

(1) If a display screen shows all of the functions available from a multi-function control, as required by the proposed text, how important is it to vehicle safety that the control itself be labeled?

(2) Please provide any data related to the safety of use of multi-function controls, such as the number of times the driver looks away from the road, the length of these glances, etc., while using the control in different driving scenarios. Compare this to traditional single controls.

(3) Are there controls that, for the sake of vehicle safety, should not be combined with any other controls, or should not be combined with certain other controls?

We request comments on whether any other exceptions from the “on or adjacent” requirement would be appropriate. In providing comments on this issue and on the proposed language for the exceptions discussed above, we ask that manufacturers and other interested persons consider discussing future advanced design concepts ⁶ that may now be foreseeable.

⁶ NHTSA's regulation at 49 CFR Part 512 Confidential Business Information, establishes procedures by which NHTSA will consider claims that information submitted to us is confidential business information, as described in 5 U.S.C. Section 552(b)(4).

J. Other Issues

We invite public comment on any other FMVSS 101 issue that the commenter may wish to raise. For example, we seek comment on whether the selection of some controller/multi-task display combinations are, or could become, too complex for some drivers.

K. Conforming Amendments to Other Standards

Several other safety standards include requirements that are affected by the proposed changes to FMVSS 101, including FMVSS 105, 121 and 135. While we are not specifying specific proposed regulatory text, we will make any necessary conforming amendments as part of the final rule.

VI. Leadtime and Cost

We believe the controls, telltales and indicators that would be regulated by the proposed new version of FMVSS 101 are already identified by vehicle manufacturers. The primary cost of this rulemaking would therefore be changing the identification of those controls, telltales and indicators that are not already identified by the proposed symbols but are instead identified by words or some other symbol. To the extent that such changes are made in the course of normal vehicle redesigns, such costs would be negligible.

Given that the benefits of this rulemaking are nonquantifiable and recognizing that it could be costly for some manufacturers to have to redesign their vehicles within a short time period to meet the proposed requirements, we tentatively conclude that it is in the public interest to provide a long leadtime for the proposed requirements. We are proposing a leadtime of five years for light vehicles and eight years for vehicles with a GVWR of 4,536 kg. or greater.

The proposed leadtime would generally permit manufacturers to redesign their vehicles to meet the proposed requirements at the same time as they redesign their vehicles for other purposes. A longer leadtime is proposed for heavier vehicles because they are redesigned less often and because they have not previously been subject to FMVSS 101's requirements for displays.

VII. Regulatory Analyses and Notices

A. Executive Order 12866 and DOT Regulatory Policies and Procedures

Executive Order 12866, “Regulatory Planning and Review” (58 FR 51735, October 4, 1993), provides for making determinations whether a regulatory action is “significant” and therefore subject to Office of Management and Budget (OMB) review and to the requirements of the Executive Order. The Order defines a “significant regulatory action” as one that is likely to result in a rule that may:

(1) Have an annual effect on the economy of $100 million or more or adversely affect in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

We have considered the impact of this rulemaking action under Executive Order 12866 and the Department of Transportation's regulatory policies and procedures. This rulemaking document was not reviewed by the Office of Management and Budget under E.O. 12866, “Regulatory Planning and Review.” The rulemaking action is also not considered to be significant under the Department's Regulatory Policies and Procedures (44 FR 11034; February 26, 1979).

For the following reasons, we believe that this proposal, if made final, would not have any quantifiable cost effect on motor vehicle manufacturers. We believe that all vehicle manufacturers already identify each control, telltale or indicator provided in vehicles that they manufacture. We believe that because we are providing five to eight years of leadtime, if this proposed rule is made final, there would be enough leadtime for manufacturers to make necessary vehicle changes that coincide with continuous design changes in motor vehicles for future model years.

If this proposed rule is made final, we believe manufacturers would incur minuscule costs to make the identifications meet FMVSS 101. This rule, if made final, would specify the symbol that must be used to identify each control, telltale, or indicator in a motor vehicle. This requirement would only apply if that control, telltale or indicator were listed in one of the tables proposed in this NPRM.

Because the economic impacts of this proposal are so minimal, no further regulatory evaluation is necessary.

B. Regulatory Flexibility Act

Pursuant to the Regulatory Flexibility Act (5 U.S.C. 601 et seq., as amended by the Small Business Regulatory Enforcement Fairness Act (SBREFA) of 1996) whenever an agency is required to publish a notice of rulemaking for any proposed or final rule, it must prepare and make available for public comment a regulatory flexibility analysis that describes the effect of the rule on small entities (i.e., small businesses, small organizations, and small governmental jurisdictions). However, no regulatory flexibility analysis is required if the head of an agency certifies the rule would not have a significant economic impact on a substantial number of small entities. SBREFA amended the Regulatory Flexibility Act to require Federal agencies to provide a statement of the factual basis for certifying that a rule would not have a significant economic impact on a substantial number of small entities.

The Administrator has considered the effects of this rulemaking action under the Regulatory Flexibility Act (5 U.S.C. 601 et seq.) and certifies that this proposal would not have a significant economic impact on a substantial number of small entities. We believe that if this proposed rule is made final, small motor vehicle manufacturers would incur minuscule costs to make the identifications of controls, telltales, and indicators in their vehicle meet FMVSS 101. The statement of the factual basis for the certification is that this proposed rule, if made final, would require specific symbols to be placed on a motor vehicle control, telltale, or indicator, if that control, indicator or telltale is listed in one of three tables in FMVSS 101, and is provided in that vehicle. If any such control, indicator or telltale already is provided in a motor vehicle, the vehicle manufacturer already provides some type of identification for it. The only change would be a substitution of existing symbols. We propose to give manufacturers lead time of five to eight years to provide the new symbols. Nothing in this proposed rule, if made final, would require that any telltale, indicator, or control be provided in a motor vehicle. For manufacturers of motor vehicles with multi-task controls, we propose to relieve a regulatory restriction. For these reasons, and for the reasons described in our discussion on Executive Order 12866 and DOT Regulatory Policies and Procedures, the agency believes that this proposal would, if made final, may have a minuscule, but not significant, cost effect on small motor vehicle manufacturers considered to be small business entities.

C. Executive Order 13132 (Federalism)

Executive Order 13132 requires us to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, we may not issue a regulation with Federalism implications, that imposes substantial direct compliance costs, and that is not required by statute, unless the Federal government provides the funds necessary to pay the direct compliance costs incurred by State and local governments, or unless we consult with State and local governments, or unless we consult with State and local officials early in the process of developing the proposed regulation. We also may not issue a regulation with Federalism implications and that preempts State law unless we consult with State and local officials early in the process of developing the proposed regulation.

This proposed rule would not have substantial direct effects on the States, on the relationship between the national government and the States, or on the distribution of power and responsibilities among the various levels of government, as specified in Executive Order 13132. The reason is that this proposed rule, if made final, would apply to motor vehicle manufacturers, and not to the States or local governments. Thus, the requirements of Section 6 of the Executive Order do not apply to this proposed rule.

D. Executive Order 12778 (Civil Justice Reform)

Pursuant to Executive Order 12778, “Civil Justice Reform,” we have considered whether this proposed rule would have any retroactive effect. We conclude that it would not have such an effect.

Under 49 U.S.C. 30103, whenever a Federal motor vehicle safety standard is in effect, a State may not adopt or maintain a safety standard applicable to the same aspect of performance which is not identical to the Federal standard, except to the extent that the state requirement imposes a higher level of performance and applies only to vehicles procured for the State's use. 49 U.S.C. 30161 sets forth a procedure for judicial review of final rules establishing, amending or revoking Federal motor vehicle safety standards. That section does not require submission of a petition for reconsideration or other administrative proceedings before parties may file suit in court.

E. National Environmental Policy Act

We have analyzed this proposal for the purposes of the National Environmental Policy Act and determined that it would not have any significant impact on the quality of the human environment.

F. Paperwork Reduction Act

NHTSA has determined that, if made final, this proposed rule would impose no “collection of information” burdens on the public, within the meaning of the Paperwork Reduction Act of 1995 (PRA). This rulemaking action would not impose any filing or recordkeeping requirements on any manufacturer or any other party. For this reason, we discuss neither electronic filing and recordkeeping nor a fully electronic reporting option by October 2003.

G. National Technology Transfer and Advancement Act

Section 12(d) of the National Technology Transfer and Advancement Act of 1995 (NTTAA), Public Law 104-113, section 12(d) (15 U.S.C. 272) directs us to use voluntary consensus standards in our regulatory activities unless doing so would be inconsistent with applicable law or otherwise impractical. Voluntary consensus standards are technical standards (e.g., materials specifications, test methods, sampling procedures, and business practices) that are developed or adopted by voluntary consensus standards bodies, such as the Society of Automotive Engineers (SAE). The NTTAA directs us to provide Congress, through OMB, explanations when we decide not to use available and applicable voluntary consensus standards.

After conducting a search of available sources, we have determined that there is an applicable voluntary consensus standard. That standard is the International Standards Organization's (ISO) Standard 2575:2000. We are using the symbols in that standard in Table 1 and Table 2 of this NPRM.

H. Unfunded Mandates Reform Act

Section 202 of the Unfunded Mandates Reform Act of 1995 (UMRA) requires Federal agencies to prepare a written assessment of the costs, benefits and other effects of proposed or final rules that include a Federal mandate likely to result in the expenditure by State, local or tribal governments, in the aggregate, or by the private sector, of more than $100 million in any one year (adjusted for inflation with base year of 1995). Before promulgating a NHTSA rule for which a written statement is needed, section 205 of the UMRA generally requires us to identify and consider a reasonable number of regulatory alternatives and adopt the least costly, most cost-effective or least burdensome alternative that achieves the objectives of the rule. The provisions of section 205 do not apply when they are inconsistent with applicable law. Moreover, section 205 allows us to adopt an alternative other than the least costly, most cost-effective or least burdensome alternative if we publish with the final rule an explanation why that alternative was not adopted.

This proposal would not result in costs of $100 million or more to either State, local, or tribal governments, in the aggregate, or to the private sector. Thus, this proposal is not subject to the requirements of sections 202 and 205 of the UMRA.

I. Plain Language

Executive Order 12866 requires each agency to write all rules in plain language. Application of the principles of plain language includes consideration of the following questions:

—Have we organized the material to suit the public's needs?

—Are the requirements in the rule clearly stated?

—Does the rule contain technical language or jargon that is not clear?

—Would a different format (grouping and order of sections, use of headings, paragraphing) make the rule easier to understand?

—Would more (but shorter) sections be better?

—Could we improve clarity by adding tables, lists, or diagrams?

—What else could we do to make this rulemaking easier to understand?

If you have any responses to these questions, please include them in your comments on this NPRM.

J. Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

VIII. Comments

How Do I Prepare and Submit Comments?

Your comments must be written and in English. To ensure that your comments are correctly filed in the Docket, please include the docket number of this document in your comments.

Your comments must not be more than 15 pages long. (49 CFR 553.21). We established this limit to encourage you to write your primary comments in a concise fashion. However, you may attach necessary additional documents to your comments. There is no limit on the length of the attachments.

Please submit two copies of your comments, including the attachments, to Docket Management at the address given above under ADDRESSES.

You may also submit your comments to the docket electronically by logging onto the Dockets Management System website at http://dms.dot.gov. Click on “Help & Information” or “Help/Info” to obtain instructions for filing the document electronically.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter setting forth the information specified in our confidential business information regulation. (49 CFR part 512.)

Will the Agency Consider Late Comments?

We will consider all comments that Docket Management receives before the close of business on the comment closing date indicated above under DATES. To the extent possible, we will also consider comments that Docket Management receives after that date. If Docket Management receives a comment too late for us to consider it in developing a final rule (assuming that one is issued), we will consider that comment as an informal suggestion for future rulemaking action.

How Can I Read the Comments Submitted By Other People?

You may read the comments received by Docket Management at the address given above under ADDRESSES. The hours of the Docket are indicated above in the same location.

You may also see the comments on the Internet. To read the comments on the Internet, take the following steps:

1. Go to the Docket Management System (DMS) Web page of the Department of Transportation (http://dms.dot.gov/).

2. On that page, click on “search.”

3. On the next page (http://dms.dot.gov/search/), type in the four-digit docket number shown at the beginning of this document. Example: If the docket number were “NHTSA-1998-1234,” you would type “1234.” After typing the docket number, click on “search.”

4. On the next page, which contains docket summary information for the docket you selected, click on the desired comments. You may download the comments. Although the comments are imaged documents, instead of word processing documents, the “pdf” versions of the documents are word searchable.

Please note that even after the comment closing date, we will continue to file relevant information in the Docket as it becomes available. Further, some people may submit late comments. Accordingly, we recommend that you periodically check the Docket for new material.

How Does the Federal Privacy Act Apply to My Public Comments?

Anyone is able to search the electronic form of all comments received into any of our dockets by the name of the individual submitting the comment (or signing the comment, if submitted on behalf of an association, business, labor union, etc.). You may review DOT's complete Privacy Act Statement in the Federal Register published on April 11, 2000 (Volume 65, Number 70; pages 19477-78) or you may visit http://dms.dot.gov.

List of Subjects in 49 CFR Part 571

Imports, Motor vehicle safety, Motor vehicles, Rubber and rubber products, Tires.

In consideration of the foregoing, it is proposed that the Federal Motor Vehicle Safety Standards (49 CFR part 571), be amended as set forth below.

PART 571—FEDERAL MOTOR VEHICLE SAFETY STANDARDS

1. The authority citation for part 571 would continue to read as follows:

Authority: 49 U.S.C. 322, 30111, 30115, 30117, and 30166; delegation of authority at 49 CFR 1.50.

2. Section 571.101 would be revised to read as follows:

§ 571.101 Standard No. 101; Controls, telltales, and indicators.

S1. Scope. This standard specifies performance requirements for location, identification, color, and illumination of motor vehicle controls, telltales and indicators.

S2. Purpose. The purpose of this standard is to ensure the accessibility, visibility and recognition of motor vehicle controls, telltales and indicators, and to facilitate the proper selection of controls under daylight and nighttime conditions, in order to reduce the safety hazards caused by the diversion of the driver's attention from the driving task, and by mistakes in selecting controls.

S3. Application. This standard applies to passenger cars, multipurpose passenger vehicles, trucks, and buses.

S4. Definitions.

Adjacent, with respect to a symbol identifying a control, telltale or indicator, means:

(a) The symbol is in close proximity to the control, telltale or indicator; and

(b) No other control, telltale, indicator, identifying symbol or source of illumination appears between the identifying symbol and the telltale, indicator, or control that the symbol identifies.

Common space means an area on which more than one telltale, indicator, identifier, or other message may be displayed, but not simultaneously.

Control means the hand-operated part of a device that enables the driver to change the state or functioning of the vehicle or a vehicle subsystem.

Indicator means a device that shows the magnitude of the physical characteristics that the instrument is designed to sense.

Multi-function control means a control through which the driver may select, and affect the operation of, more than one vehicle function.

Multi-task display means a display on which more than one message can be shown simultaneously.

Telltale means an optical signal that, when illuminated, indicates the actuation of a device, a correct or improper functioning or condition, or a failure to function.

S5. Requirements. Each passenger car, multipurpose passenger vehicle, truck and bus that is fitted with a control, a telltale or an indicator listed in Table 1 or Table 2 must meet the requirements of this standard for the location, identification, color, and illumination of that control, telltale or indicator. The standard's requirements for telltales and indicators do not apply to vehicles with a GVWR of 4,536 kg. or greater if those vehicles are manufactured before [the date eight years after the publication date of the final rule would be inserted]. At the option of the manufacturer, vehicles with a GVWR less than 4,536 kg. manufactured before [the date five years after the publication date of the final rule would be inserted] may meet the requirements of the version of 49 CFR part 571.101 in effect on [the publication date of the final rule would be inserted] instead of the requirements of this version of the standard. At the option of the manufacturer, vehicles with a GVWR of 4,536 kg. or greater manufactured before [the date eight years after the publication date of the final rule would be inserted] may meet the requirements of the version of 49 CFR part 571.101 in effect on [the publication date of the final rule would be inserted] instead of the requirements of this version of the standard.

S5.1 Location.

S5.1.1 The controls listed in Table 1 must be located so that they are operable by the driver under the conditions of S5.6.2.

S5.1.2 The telltales and indicators listed in Table 1 and Table 2 and their identification must be located so that, when activated, they are visible to a driver under the conditions of S5.6.1 and S5.6.2.

S5.1.3 Except as provided in S5.1.4, the identification for controls, telltales and indicators must be placed on or adjacent to the telltale, indicator or control that it identifies.

S5.1.4 The requirement of S5.1.3 does not apply to a multi-task control, provided:

(a) The control is depicted in an associated multi-task display,

(b) The associated multi-task display is visible to the driver under the conditions of S5.6.1 and S5.6.2, and

(c) All of the vehicle systems for which control is possible from the multi-task control are identified in the associated multi-task display. Subfunctions of the available systems need not be shown on the top-most layer of the multi-task display.

S5.2 Identification.

S5.2.1 Each control, telltale and indicator that is listed in column 1 of Table 1 or Table 2 must be identified by the symbol specified for it in column 2 of Table 1 or Table 2. Each symbol provided pursuant to this paragraph must have the proportional dimensional characteristics of the symbol as it appears in Table 1 or Table 2. No identification is required for any horn (i.e., audible warning signal) that is activated by a lanyard or for a turn signal control that is operated in a plane essentially parallel to the face plane of the steering wheel in its normal driving position and which is located on the left side of the steering column so that it is the control on that side of the column nearest to the steering wheel face plane.

S5.2.2 Any symbol not shown in Table 1 or Table 2 may be used to identify a control, a telltale or an indicator that is not listed in those tables.

S5.2.3 Supplementary symbols or words may be used in conjunction with any symbol specified in Table 1 or Table 2.

S5.2.4 [Reserved]

S5.2.5 A single symbol may be used to identify any combination of the control, indicator, and telltale for the same function.

S5.2.6 Except as provided in S5.2.7, all identifications of telltales, indicators and controls listed in Table 1 or Table 2 must appear to the driver to be perceptually upright. For rotating controls that have an “off” position, this requirement applies to the control in the “off” position.

S5.2.7 The identification of the following items need not appear to the driver to be perceptually upright:

(a) A horn control;

(b) Any control, telltale or indicator located on the steering wheel, when the steering wheel is positioned for the motor vehicle to travel in a direction other than straight forward; and

(c) Any rotating control that does not have an “off” position.

S5.2.8 Each control for an automatic vehicle speed system (cruise control) and each control for heating and air conditioning systems must have identification provided for each function of each such system.

S5.2.9 Each control that regulates a system function over a continuous range must have identification provided for the limits of the adjustment range of that function. If color coding is used to identify the limits of the adjustment range of a temperature function, the hot limit must be identified by the color red and the cold limit by the color blue. If the status or limit of a function is shown by a display not adjacent to the control for that function, both the control and the display must be independently identified as to the function of the control, in compliance with S5.2.1, on or adjacent to the control and on or adjacent to the display.

S5.2.10 Motor vehicles manufactured on or after [the date 5 years after the effective date of the final rule would be inserted] need not have the word “Brake” on the brake malfunction symbol specified in Table 1.

S5.2.11 Motor vehicles manufactured on or after [the date 5 years after the effective date of the final rule would be inserted] need not have the words “Brake pressure” on the low brake air/fluid pressure symbol specified in Table 1.

S5.2.12 Motor vehicles manufactured on or after [the date 5 years after the effective date of the final rule would be inserted] need not have the words “Brake fluid” on the low brake fluid condition symbol specified in Table 1.

S5.2.13 Motor vehicles manufactured on or after [the date 5 years after the effective date of the final rule would be inserted] need not have the English words “Brake wear” on the brake lining wear-out condition symbol specified in Table 1.

S5.3 Illumination.

S5.3.1 Timing of illumination.

(a) Except as provided in S5.3.1(c), the identifications of controls for which the word “Yes” is specified in column 4 of Table 1 must be capable of being illuminated whenever the headlamps are activated. This requirement does not apply to a control located on the floor, floor console, steering wheel, steering column, or in the area of windshield header, or to a control for a heating and air-conditioning system that does not direct air upon the windshield.

(b) Except as provided in S5.3.1(c), the indicators and their identifications for which the word “Yes” is specified in column 4 of Table 1 must be illuminated whenever the vehicle's propulsion system and headlamps are activated.

(c) The indicators, their identifications and the identifications of controls need not be illuminated when the headlamps are being flashed or operated as daytime running lamps.

(d) At the manufacturer's option, any control, indicator, or their identifications may be capable of being illuminated at any time.

(e) A telltale must not emit light except when identifying the malfunction or vehicle condition it is designed to indicate, or during a bulb check, upon propulsion system activation.

S5.3.2 Brightness of illumination of controls and indicators.

S5.3.2.1 Means must be provided for illuminating the indicators, identifications of indicators and identifications of controls listed in Table 1 to make them visible to the driver under daylight and nighttime driving conditions.

S5.3.2.2 The means of providing the visibility required by S5.3.2.1:

(a) Must be adjustable to provide at least two levels of brightness;

(b) At the lower level of brightness, the identification of controls, indicators and the identification of indicators must be barely discernible to the driver who has adapted to dark ambient roadway condition; and

(c) May be operable manually or automatically.

S5.3.3 Brightness of telltale illumination. Means must be provided for illuminating telltales and their identification sufficiently to make them visible to the driver under daylight and nighttime driving conditions.

S5.3.4 Brightness of interior lamps. Any source of illumination that is:

(a) Within the passenger compartment of a motor vehicle;

(b) Located in front of a transverse vertical plane 110 mm behind the H-point of the driver's seat while in its rearmost driving position;

(c) Capable of being activated while the motor vehicle is in motion; and

(d) Neither a telltale nor a source of illumination used for the controls and indicators listed in Table 1 or Table 2, must have a means for the driver to turn off that source under the conditions of S5.6.2.

S5.4 Color.

S5.4.1 The light of each telltale listed in Table 1 must be of the color specified for that telltale in column 5 of that table.

S5.4.2 Any indicator or telltale not listed in Table 1 and any identification of that indicator or telltale must not be a color that masks the driver's ability to recognize any telltale, control, or indicator listed in Table 1.

S5.4.3 Each symbol used for the identification of a telltale, control or indicator must be in a color that stands out clearly against the background.

S5.4.4 The filled-in part of any symbol in Table 1 or Table 2 may be replaced by its outline and the outline of any symbol in Table 1 or Table 2 may be filled in.

S5.5 Common space for displaying multiple messages.

S5.5.1 A common space may be used to show multiple messages from any source, subject to the requirements in S5.5.2 through S5.5.6.

S5.5.2 The telltales for any brake system malfunction, the air bag malfunction, the side air bag malfunction, low tire pressure, passenger air bag off, high beam, turn signal, and seat belt must not be shown in the same common space.

S5.5.3 The telltales and indicators that are listed in Table 1 and are shown in the common space must illuminate at the initiation of any underlying condition.

S5.5.4 Except as provided in S5.5.5, when the underlying conditions exist for actuation of two or more telltales, the telltales must be either:

(a) Repeated automatically in sequence, or

(b) Indicated by visible means and capable of being selected for viewing by the driver under the conditions of S5.6.2.

S5.5.5 In the case of the telltale for a brake system malfunction, air bag malfunction, side air bag malfunction, low tire pressure, passenger air bag off, high beam, turn signal, or seat belt that is designed to display in a common space, that telltale must displace any other symbol or message in that common space while the underlying condition for the telltale's activation exists.

S5.5.6(a) Except as provided in S5.5.6(b), messages displayed in a common space may be cancelable automatically or by the driver.

(b) Telltales for high beams, turn signal, low tire pressure, and passenger air bag off, and telltales for which the color red is required in Table 1 must not be cancelable while the underlying condition for their activation exists.

(c) The color requirements regarding telltales for engine oil pressure and parking brake do not apply when those telltales appear in a common space.

S5.6 Conditions.

S5.6.1 The driver has adapted to the ambient light roadway conditions.

S5.6.2 The driver is restrained by the seat belts installed in accordance with 49 CFR 571.208 and adjusted in accordance with the vehicle manufacturer's instructions.

BILLING CODE 4910-59-P

Issued on: September 17, 2003.
Stephen R. Kratzke,
Associate Administrator for Rulemaking.

[FR Doc. 03-24145 Filed 9-22-03; 8:45 am]

BILLING CODE 4910-59-C